ENVIRONMENTAL PROTECTION AGENCY

40 CFR Part 194

[FRL-7012-2]

RIN 2060-AG85

Waste Characterization Program Documents Applicable to Transuranic Radioactive Waste From the Idaho National Engineering and Environmental Laboratory Proposed for Disposal at the Waste Isolation Pilot Plant

AGENCY: Environmental Protection Agency.

ACTION: Notice of availability; opening of public comment period.

SUMMARY: The Environmental Protection Agency (EPA, or “we”) is announcing the availability of, and soliciting public comments for 30 days on, Department of Energy (DOE) documents on waste characterization programs applicable to certain transuranic (TRU) radioactive waste at the Idaho National Engineering and Environmental Laboratory (INEEL) proposed for disposal at the Waste Isolation Pilot Plant (WIPP). The documents are procedures and other materials related to the Waste Assay Gamma Spectrometer (WAGS) system, which INEEL proposes to use for radioassay of transuranic (TRU) radioactive waste. The documents are available for review in the public dockets listed in ADDRESSES. We will use these documents to evaluate the WAGS system during an inspection conducted in accordance with EPA's WIPP Compliance Criteria in July 2001. The purpose of the inspection is to verify that the proposed new system at INEEL can characterize transuranic solid waste properly, consistent with the WIPP Compliance Criteria and Condition 3 of EPA's final certification decision for the WIPP.

DATES: The EPA is requesting public comment on these documents. Comments must be received by EPA's official Air Docket on or before August 13, 2001.

ADDRESSES: Comments should be submitted to: Docket No. A-98-49, Air Docket, Room M-1500 (LE-131), U.S. Environmental Protection Agency, 401 M Street, SW., Washington, DC 20460.

DOE documents related to the WAGS system are available for review in the official EPA Air Docket in Washington, DC, Docket No. A-98-49, Category II-A-2, and at the following three EPA WIPP informational docket locations in New Mexico: in Carlsbad at the Municipal Library, Hours: Monday-Thursday, 10 am-9 pm, Friday-Saturday, 10 am-6 pm, and Sunday, 1 pm-5 pm; in Albuquerque at the Government Publications Department, General Library, University of New Mexico, Hours: vary by semester; and in Santa Fe at the New Mexico State Library, Hours: Monday-Friday, 9 am-5 pm.

Copies of items in the docket may be requested by writing to Docket A-98-49 at the address provided above, or by calling (202) 260-7548. As provided in EPA's regulations at 40 CFR part 2, and in accordance with normal EPA docket procedures, a reasonable fee may be charged for photocopying.

FOR FURTHER INFORMATION CONTACT: Scott Monroe, Office of Radiation and Indoor Air, (202) 564-9310, or call EPA's 24-hour, toll-free WIPP Information Line, 1-800-331-WIPP, or visit our website at http://www.epa.gov/radiation/wipp/announce.html.

SUPPLEMENTARY INFORMATION: The DOE is developing the WIPP near Carlsbad in southeastern New Mexico as a deep geologic repository for disposal of TRU radioactive waste. As defined by the WIPP Land Withdrawal Act (LWA) of 1992 (Pub. L. 102-579), as amended (Pub. L. 104-201), TRU waste consists of materials containing elements having atomic numbers greater than 92 (with half-lives greater than twenty years), in concentrations greater than 100 nanocuries of alpha-emitting TRU isotopes per gram of waste. Most TRU waste consists of items contaminated during the production of nuclear weapons, such as rags, equipment, tools, and organic and inorganic sludges.

On May 13, 1998, EPA announced its final compliance certification decision to the Secretary of Energy (published May 18, 1998, 63 FR 27354). This decision states that the WIPP will comply with the EPA's radioactive waste disposal regulations at 40 CFR part 191, subparts B and C.

The final WIPP certification decision includes a condition that prohibits shipment of TRU waste for disposal at WIPP from any site other than LANL until EPA has approved the procedures developed to comply with the waste characterization requirements of § 194.24(c)(4) (Condition 3 of appendix A to 40 CFR part 194). The EPA's approval process for waste generator sites is described in § 194.8. As part of EPA's decision making process, DOE is required to submit to EPA relevant documentation of waste characterization programs at each DOE waste generator site seeking approval for shipment of TRU radioactive waste to the WIPP. In accordance with § 194.8, EPA will place such documentation in the official Air Docket in Washington, DC, and in informational dockets in the State of New Mexico, for public review and comment.

We initially approved certain waste characterization processes at INEEL following an inspection on July 28-30, 1998. Since December 2000, INEEL has been using a new radioassay system, called the SWEPP Waste Assay Gamma Spectrometer (WAGS) system, to complete measurements of the radioactive constituents of waste drums. EPA recently learned that drums characterized by the WAGS system were sent to the WIPP without EPA's approval. On June 27, 2001, we instructed DOE to suspend shipments from INEEL pending investigation by EPA inspectors. On July 2-3, 2001, we performed a preliminary test of the WAGS system and found that it appears to operate at a level comparable to an EPA-approved system. Consequently, there appears to be no risk to public safety or the environment from INEEL drums already placed in the mine. We also found that INEEL is taking proper actions to identify the cause of the error and prevent recurrence. Therefore, we allowed DOE to resume shipment of INEEL waste not characterized by the WAGS. Information related to this action, including EPA's report of the preliminary inspection, has been placed in Air Docket A-98-49.

We will conduct a separate inspection in accordance with § 194.8 to verify that this new waste characterization process is technically adequate and in compliance with Condition 3 of our WIPP Certification Decision (appendix A to 40 CFR part 194) and § 194.24(c)(4). This inspection will occur in July 2001. Documents related to the WAGS system have been placed in Air Docket A-98-49, particularly: “Waste Assay Gamma-Ray Spectrometer (WAGS) System Description, TPR-1561, Rev. 1,” and “SWEPP Waste Assay Gamma Spectrometer (WAGS) System, TPR-1654, Rev. 2.” In accordance with § 194.8 of the WIPP compliance criteria, we are providing the public 30 days to comment on the documents and on the proposed new process. Because the inspection will occur during the comment period, we will respond to relevant comments received prior to, during, and after the inspection.

If EPA determines that the provisions in the documents are adequately implemented, we will notify DOE by letter and place the letter in the official Air Docket in Washington, DC, and in the informational docket locations in New Mexico. A positive approval letter will allow INEEL to ship TRU waste characterized by the WAGS system. We will not make a determination of compliance prior to the inspection or before the 30-day comment period has closed.

Information on EPA's radioactive waste disposal standards (40 CFR part 191), the compliance criteria (40 CFR part 194), and EPA's certification decision is filed in the official EPA Air Docket, Dockets No. R-89-01, A-92-56, and A-93-02, respectively, and is available for review in Washington, D.C., and at the three EPA WIPP informational docket locations in New Mexico. The dockets in New Mexico contain only major items from the official Air Docket in Washington, DC, plus those documents added to the official Air Docket after the October 1992 enactment of the WIPP LWA.

Dated: July 9, 2001.
Robert D. Brenner,
Acting Assistant Administrator for Air and Radiation.

[FR Doc. 01-17612 Filed 7-12-01; 8:45 am]

BILLING CODE 6560-50-P